DEPARTMENT OF TRANSPORTATION

Coast Guard

33 CFR Part 165

[CGD09-02-003]

RIN 2115-AA97

Safety Zone; Annual Fireworks Events in the Captain of the Port Milwaukee Zone

AGENCY: Coast Guard, DOT.

ACTION: Final rule.

SUMMARY: The Coast Guard is establishing safety zones for annual fireworks displays located in the Captain of the Port Milwaukee Zone. This action provides for the safety of life and property on navigable waters during each event. This action restricts vessel traffic in a portion of the Captain of the Port Milwaukee Zone during the enforcement periods.

DATES: This rule is effective on July 3, 2002.

ADDRESSES: Comments and material received from the public, as well as documents indicated in this preamble as being available in the docket, are part of docket CGD09-02-003 and are available for inspection or copying at, U.S. Coast Guard, Marine Safety Office Milwaukee, 2420 S. Lincoln Memorial Drive, Milwaukee, WI 53207 between 7 a.m. and 3:30 p.m., Monday through Friday, except Federal holidays.

FOR FURTHER INFORMATION CONTACT: Marine Science Technician Chief, Dave McClintock, U.S. Coast Guard Marine Safety Office Milwaukee, at (414) 747-7155.

SUPPLEMENTARY INFORMATION:

Regulatory Information

On April 18, 2002, we published a notice of proposed rulemaking (NPRM) entitled Safety Zone; Captain of the Port Milwaukee Zone in the Federal Register (67 FR 19144). We received no letters commenting on the proposed rule. No public hearing was requested, and none was held.

The Coast Guard is establishing 29 permanent safety zones that will be enforced during fireworks displays occurring annually at the same location. The 29 locations are the Henry W. Maier Festival Park Harbor Island, Outer Milwaukee Harbor, Lake Michigan; 80 feet east of the Annheuser Busch grain elevator, Manitowoc River; 100 feet out on the South Pier, Sheboygan Harbor, Sheboygan River, and Lake Michigan; C Reiss Coal Co. Beach, Lake Michigan and Sheboygan River; Wolfen Buttel Park, Lake Michigan and Kenosha Harbor entrance; Veterans Park, outer Milwaukee Harbor, Lake Michigan; Stephenson Island, Menominee River; 150 feet off Pere Marquette Park, Milwaukee River; 1000 feet east of Manitowoc Yacht Club, Lake Michigan; north breakwall at the elbow, Racine Harbor and Lake Michigan; Leichts Park and the Western Lime Corp. & Leichts Transfer Storage Companies private property, Fox River; Henry W. Maier Festival Park Harbor Island Lagoon, outer Milwaukee Harbor, Lake Michigan; South Shore Park, Lake Michigan; South Pier, Kewaunee Harbor and Lake Michigan; Wisconsin Electric Coal Dock, Port Washington Harbor, Lake Michigan; 1000 feet off Menominee Marina, Lake Michigan; 360 feet off Sturgeon Bay Yacht Harbor, Sturgeon Bay Canal; South breakwall at the second elbow, Algoma Harbor and Lake Michigan; 560 feet off Sister Municipal Marina, Lake Michigan; between East Chicago St. and Humboldt Ave, Milwaukee River; and 500 feet out on the South Pier, Sheboygan Harbor and Lake Michigan.

Based on recent accidents that have occurred in other Captain of the Port zones, and the explosive hazard associated with these events, the Captain of the Port has determined that fireworks launches in close proximity to watercraft pose a significant risk to public safety and property. The likely combination of large numbers of inexperienced recreational boaters, congested waterways, darkness punctuated by bright flashes of light, alcohol use, and debris falling into the water could easily result in serious injuries or fatalities. Establishing a safety zone to control vessel movement around the fireworks launch platforms will help ensure the safety of persons and property at these events and help minimize the associated risk. Under 5 U.S.C. 553(d)(3), the Coast Guard finds that good cause exists for making this rule effective less than 30 days after publication in the Federal Register.

Discussion of Comments and Changes

MSO Milwaukee received no comments or related information pertaining to this rulemaking.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which might be small entities: The owners or operators of commercial vessels intending to transit a portion of an activated safety zone.

These safety zones would not have a significant economic impact on these small entities for the following reasons: The safety zone is only in effect for a few hours on the day of the event on an annual basis. Vessel traffic can safely pass outside the safety zones during the events. In cases where traffic congestion is greater than expected and blocks shipping channels, traffic may be allowed to pass through the safety zone under Coast Guard escort with the permission of the Captain of the Port Milwaukee.

Before the effective period, the Coast Guard will issue maritime advisories widely available to users who might be in the affected area by publication in the Federal Register and the Ninth Coast Guard District Local Notice to Mariners Marine information broadcasts and facsimile broadcasts may also be made. Additionally, the Coast Guard has not received any negative reports from small entities affected during these displays in previous years.

Assistance for Small Entities

Under section 213(a) of the Small Business Regulatory Enforcement Fairness Act of 1996 (Public Law 104-121), we want to assist small entities in understanding this rule so that they can better evaluate its effects and participate in the rulemaking process. If the rule would affect your small business, organization, or governmental jurisdiction and you have questions concerning its provisions or options for compliance, please contact Marine Safety Office Milwaukee (see ADDRESSES).

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132 Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Environment

We have considered the environmental impact of this rule and concluded that under figure 2-1, paragraph (34)(g) of Commandant Instruction M16475.lC, this rule is categorically excluded from further environmental documentation.

A “Categorical Exclusion Determination” is available in the docket for inspection or copying where indicated under ADDRESSES.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Add § 165.909 to read as follows:

§ 165.909 Safety Zones; Annual fireworks events in the Captain of the Port Milwaukee Zone.

(a) Safety zones. The following areas are designated safety zones:

(1) Pridefest Fireworks—Milwaukee, WI.

(i) Location. All waters off of Henry W. Maier Festival Park Harbor Island, outer Milwaukee Harbor from the point of origin at 43°02.209′ N, 087°53.714′ W; southeast to 43°02.117′ N, 087°53.417′ W; then south to 43°01.767′ N, 087°53.417′ W; then southwest to 43°01.555′ N, 087°53.772′ W; then north following the shoreline back to the point of origin (NAD 83). The Harbor Island Lagoon Area is encompassed by this safety zone.

(ii) Expected date and time. Second week in June; sunset to termination of display.

(2) Summerfest Fireworks—Milwaukee, WI.

(i) Location. All waters off of Henry W. Maier Festival Park Harbor Island, outer Milwaukee Harbor encompassed by a line drawn from the point of origin at 43°02.209′ N, 087°53.714′ W; then southeast to 43°02.117′ N, 087°53.417′ W; then south to 43°01.767′ N, 087°53.417′ W; then southwest to 43°01.555′ N, 087°53.772′ W; then north following the shoreline back to the point of origin (NAD 83). The Harbor Island Lagoon Area is encompassed by this safety zone.

(ii) Expected date and time. Last week in June; sunset to termination of display.

(3) Summerfest Hole-in-One Shoot/Stunt Shows.

(i) Location. All waters of the Harbor Island Lagoon, outer Milwaukee Harbor from the point of origin at 43°02.50′ N, 087°53.78′ W then west to 43°02.50′ N, 087°53.85′ W; then following the shoreline of the Henry W. Maier Festival Park and Harbor Island back to the point of origin. All geographic coordinates are North American Datum of 1983 (NAD 83).

(ii) Expected date and time. Last week in June through the first two weeks in July; 11:30 a.m. to 9:15 p.m.

(4) Festa Italiana Fireworks—Milwaukee, WI.

(i) Location. All waters off of Henry W. Maier Festival Park Harbor Island, outer Milwaukee Harbor from the point of origin at 43°02.209′ N, 087°53.714′ W; then southeast to 43°02.117′ N, 087°53.417′ W; then south to 43°01.767′ N, 087°53.417′ W; then southwest to 43°01.555′ N, 087°53.772′ W; then north following the shoreline back to the point of origin (NAD 83). The Harbor Island Lagoon Area is also included in this safety zone.

(ii) Expected date and time. Third week in July; sunset to termination of display.

(5) Germanfest Fireworks—Milwaukee, WI.

(i) Location. All waters off of Henry W. Maier Festival Park Harbor Island, outer Milwaukee Harbor from the point of origin at 43°02.209′ N, 087°53.714′ W; then southeast to 43°02.117′ N, 087°53.417′ W; then south to 43°01.767′ N, 087°53.417′ W; southwest to 43°01.555′ N, 087°53.772′ W; then north following the shoreline back to the point of origin (NAD 83). The Harbor Island Lagoon Area is encompassed by this safety zone.

(ii) Expected date and time. Last week in July; sunset to termination of display.

(6) African World Festival—Milwaukee, WI.

(i) Location. All waters off of Henry W. Maier Festival Park Harbor Island, outer Milwaukee Harbor from the point of origin at 43°02.209′ N, 087°53.714′ W; then southeast to 43°02.117′ N, 087°53.417′ W; then south to 43°01.767′ N, 087°53.417′ W; then southwest to 43°01.555′ N, 087°53.772′ W; then north following the shoreline back to the point of origin (NAD 83). The Harbor Island Lagoon Area is encompassed by this safety zone.

(ii) Expected date and time. First week in August; sunset to termination of display.

(7) Irishfest Fireworks—Milwaukee, WI.

(i) Location. All waters off of Henry W. Maier Festival Park Harbor Island, outer Milwaukee Harbor from the point of origin at 43°02.209′ N, 087°53.714′ W; then southeast to 43°02.117′ N, 087°53.417′ W; then south to 43°01.767′ N, 087°53.417′ W; then southwest to 43°01.555′ N, 087°53.772′ W; then north following the shoreline back to the point of origin (NAD 83). The Harbor Island Lagoon Area is encompassed by this safety zone.

(ii) Expected date and time. Third week in August; sunset to termination of display.

(8) Mexican Fiesta Fireworks—Milwaukee, WI.

(i) Location. All waters off of Henry W. Maier Festival Park Harbor Island, outer Milwaukee Harbor from the point of origin at 43°02.209′ N, 087°53.714′ W; then southeast to 43°02.117′ N, 087°53.417′ W; then south to 43°01.767′ N, 087°53.417′ W; then southwest to 43°01.555′ N, 087°53.772′ W; then north following the shoreline back to the point of origin (NAD 83). The Harbor Island Lagoon Area is encompassed by this safety zone.

(ii) Expected date and time. Last Week in August; sunset to termination of display.

(9) Indian Summer Fireworks—Milwaukee, WI.

(i) Location. All waters off of Henry W. Maier Festival Park Harbor Island, outer Milwaukee Harbor from the point of origin at 43°02.209′ N, 087°53.714′ W; then southeast to 43°02.117′ N, 087°53.417′ W; then south to 43°01.767′ N, 087°53.417′ W; then southwest to 43°01.555′ N, 087°53.772′ W; then north following the shoreline back to the point of origin (NAD 83). The Harbor Island Lagoon Area is encompassed by this safety zone.

(ii) Expected date and time. First week in September; sunset to termination of display.

(10) Arabianfest Fireworks—Milwaukee, WI.

(i) Location. All waters off of Henry W. Maier Festival Park Harbor Island, outer Milwaukee Harbor from the point of origin at 43°02.209′ N, 087°53.714′ W; then southeast to 43°02.117′ N, 087°53.417′ W; then south to 43°01.767′ N, 087°53.417′ W; then southwest to 43°01.555′ N, 087°53.772′ W; then north following the shoreline back to the point of origin (NAD 83). The Harbor Island Lagoon Area is encompassed by this safety zone.

(ii) Expected date and time. Second Week in September; sunset to termination of display.

(11) St. Patrick's Day Fireworks—Manitowoc.

(i) Location. All waters and adjacent shoreline across from the World War II U.S. Cobia submarine, Manitowoc River encompassed by the arc of a circle with a 70-foot radius with its center in approximate position 44°05.30′ N, 087°39.15′ W (NAD 1983).

(ii) Expected date and time. Third week in March; sunset to termination of display.

(12) Rockets for Schools—Sheboygan, WI.

(i) Location. All waters and adjacent shoreline around the south breakwall area, Lake Michigan encompassed by the arc of a circle with a 1260-foot radius with its center in the approximate position 43°44.56′ N, 087°42.06′ W (NAD 1983). This zone will encompass the entrance to Sheboygan Harbor and will result in its closure while the safety zone is in effect.

(ii) Expected date and time. Second weekend in May; sunset to termination of display.

(13) City of Sheboygan Fourth of July Fireworks.

(i) Location. All waters and adjacent shoreline of Lake Michigan encompassed by the arc of a circle with an 840-foot radius with its center in the approximate position 43°44.48′ N, 087°42.14′ W (NAD 1983). This zone will encompass the entrance to Sheboygan Harbor and will result in its closure while the safety zone is in effect.

(ii) Expected date and time. First week in July; sunset to termination of display.

(14) City of Kenosha Fourth of July Fireworks.

(i) Location. All waters and adjacent shoreline around the South Pier Light area, Lake Michigan encompassed by the arc of a circle with an 840-foot radius with its center in approximate position 42°35.17′ N, 087°48.33′ W (NAD 1983). This safety zone will encompass the entrance to Kenosha Harbor and will result in its closure while the safety zone is in effect.

(ii) Expected date and time. First week in July; sunset to termination of display.

(15) U.S. Bank (Firstar) Fireworks—Milwaukee, WI.

(i) Location. All waters and adjacent shoreline south of Juneau Park, outer Milwaukee Harbor encompassed by the arc of a circle with an 840-foot radius of the fireworks barge in approximate position 43°02.23′ N, 087°53.30′ W (NAD 1983).

(ii) Expected date and time. First week in July; sunset to termination of display.

(16) Marinettefest Fireworks.

(i) Location. All waters between the U.S. 41 Interstate Bridge (mile marker 1.88) and the NEW Hydro Inc. Dam (mile marker 2.45) on the Menominee River. This safety zone includes all adjacent shoreline between the bridge and the dam.

(ii) Expected date and time. First week in July; sunset to termination of display.

(17) Riversplash Fireworks-Milwaukee, WI.

(i) Location. All waters and adjacent shoreline east of Pere Marquette Park, Milwaukee River encompassed by the arc of a circle with a 210-foot radius of the fireworks barge in approximate position 43°02.33′ N, 087°54.46′ W (NAD 1983). (This safety zone will temporarily close down the Milwaukee River.)

(ii) Expected date and time. First week in June; sunset to termination of display.

(18) Manitowoc Municipal Fourth of July Fireworks.

(i) Primary location. All waters and adjacent shoreline east of the Manitowoc Yacht Club, Lake Michigan encompassed by the arc of a circle with an 840-foot radius of the fireworks barge in approximate position 44°06.05′ N, 087°38.37′ W (NAD 1983).

(ii) Alternate location. All waters and the adjacent shoreline encompassed by the arc of a circle with a 420-foot radius of the fireworks barge with its center in approximate position 44°05.33′ N, 087°39.00′ W (NAD 1983). If display is moved to secondary site, it will temporarily close entrance to Manitowoc Harbor.

(iii) Expected date and time. First week in July; sunset to termination of display.

(19) Fourthfest of Greater Racine.

(i) Primary location. All waters and adjacent shoreline around the north breakwall, Lake Michigan encompassed by the arc of a circle with a 560-foot radius with its center in approximate position 42°44.14′ N, 087°46.30′ W (NAD 1983).

(ii) Alternate location. All waters and adjacent shoreline encompassed by the arc of a circle with a 560-foot radius with its center in approximate position 42°44.21′ N, 087°46.45′ W (NAD 1983) (on the beach north of the northern breakwall).

(iii) Expected date and time. First week in July; sunset to termination of display.

(20) Celebrate Amerifest—Green Bay, WI.

(i) Location. All waters and adjacent shoreline between the Green Bay & Western Railroad Bridge (mile marker 1.03) and the Mason St. Bridge (mile marker 3.52) on the Fox River. This safety will temporarily close the Fox River. (This safety zone does not encompass the water of the East River.)

(ii) Expected date and time. First week in July; 2 p.m. to 11 p.m.

(21) South Shore Frolics Fireworks—Milwaukee, WI.

(i) Location. All waters and adjacent shoreline east of South Shore Park, Milwaukee Harbor encompassed by the arc of a circle with a 280-foot radius with its center in approximate position 42°59.43′ N, 087°52.54′ W (NAD 1983).

(ii) Expected date and time. Second week in July; sunset to termination of display.

(22) Kewaunee Annual Trout Festival.

(i) Location. All waters and adjacent shoreline around the south breakwall area, Lake Michigan encompassed by the arc of a circle with a 560-foot radius with its center in approximate position 44°27.30′ N, 087°29.46′ W (NAD 1983). This safety zone will temporarily close the entrance to Kewaunee Harbor.

(ii) Expected time and date. Third weekend in July; sunset to termination of display.

(23) Port Washington Fish Days Fireworks.

(i) Location. All waters and adjacent shoreline around the Wisconsin Electric Coal Dock, Lake Michigan encompassed by the arc of a circle with an 840-foot radius with its center in approximate position 43°23.07′ N, 087°51.55′ W (NAD 1983). This safety zone will temporarily close the entrance to Port Washington Harbor.

(ii) Expected date and time. Third week in July; sunset to termination of display.

(24) Menominee Waterfront Festival.

(i) Location. All waters and adjacent shoreline off the southeast side of the Menominee Municipal Marina, Lake Michigan encompassed by the arc of a circle with an 840-foot radius of the fireworks launch platform with its center in approximate position 45°20.05′ N, 087°36.49′ W (NAD 1983).

(ii) Expected date and time. The Saturday following the first Thursday in August; sunset to termination of display.

(25) Sturgeon Bay Venetian Night Fireworks.

(i) Location. All waters and adjacent shoreline off the Sturgeon Bay Yacht Club, Sturgeon Bay Canal encompassed by the arc of a circle with a 350-foot radius of the fireworks launch platform with its center in approximate position 44°49.33′ N, 087°23.27′ W (NAD 1983). This safety zone will temporarily close down the Sturgeon Bay Canal.

(ii) Expected date and time. First weekend in August; 10 a.m. to termination of fireworks display.

(26) Algoma Shanty Days Fireworks.

(i) Primary location. All waters and adjacent shoreline around the south breakwall area, Lake Michigan encompassed by the arc of a circle with a 560-foot radius with its center in approximate position 44°36.22′ N, 087°25.55′ W (NAD 1893) forming the primary site.

(ii) Alternate location. All waters and adjacent shoreline encompassed by the arc of a circle with a 560-foot radius with its center in approximate position 44°36.28′ N, 087°25.54′ W (NAD 1983). If display is moved to secondary site, it will temporarily close entrance to Algoma Harbor.

(iii) Expected time and date. Second week in August; sunset to termination of display.

(27) Sister Bay MarinaFest—Sister Bay.

(i) Location. All waters and adjacent shoreline off the town of Sister Bay, Lake Michigan encompassed by the arc of a circle with a 560-foot radius of the fireworks launch platform with its center in approximate position 45°10.60′ N, 087°06.60′ W (NAD 1983).

(ii) Expected date and time. First week in September; sunset to termination of display.

(28) Milwaukee River Challenge—Milwaukee, WI.

(i) Location. All waters and adjacent shoreline between the Humboldt Ave. Bridge (mile marker 3.22) and E. Chicago St. (mile marker 1.08) on the Milwaukee River. This safety zone will temporarily close the Milwaukee River for crew boat races.

(ii) Expected date and time. Third week in September; 10 a.m. to 5 p.m.

(29) Sheboygan South High School Homecoming Fireworks.

(i) Location. All waters and adjacent shoreline around the south breakwall area, Lake Michigan encompassed by the arc of a circle with a 420-foot radius with its center in approximate position 43°44.57′ N, 087°42.13′ W (NAD 1983). This safety zone will temporarily close the entrance to Sheboygan Harbor.

(ii) Expected date and time. One day in the first two weeks in October; sunset to termination of display.

(b) Regulations. (1) The general regulations contained in 33 CFR 165.23 apply.

(2) All persons and vessels shall comply with the instructions of the Coast Guard Captain of the Port or the designated on scene patrol personnel. Coast Guard patrol personnel include commissioned, warrant, and petty officers of the U.S. Coast Guard. Upon being hailed by a U.S. Coast Guard vessel via siren, radio, flashing light, or other means, the operator shall proceed as directed.

(3) The safety zones in this regulation are outside navigation channels and will not adversely affect shipping. In cases where shipping is affected, commercial vessels may request permission from the Captain of the Port Milwaukee to transit the safety zone. Approval will be made on a case-by-case basis. Requests must be made in advance and approved by the Captain of the Port before transits will be authorized. The Captain of the Port may be contacted via U.S. Coast Guard Group Milwaukee on Channel 16, VHF-FM.

(c) Enforcement period. The Captain of the Port Milwaukee will publish at least 10 days in advance a Notice in the Federal Register as well as in the Ninth Coast Guard District Local Notice to Mariners the dates and times this section will be enforced.

Dated: June 24, 2002.
M.R. DeVries,
Commander, Coast Guard, Captain of the Port Milwaukee.

[FR Doc. 02-16749 Filed 7-2-02; 8:45 am]

BILLING CODE 4910-15-P